DEPARTMENT OF DEFENSE

Department of the Navy

[Docket ID: USN-2008-0045]

Privacy Act of 1974; System of Records

AGENCY: United States Marine Corps, DoD.

ACTION: Notice to add a system of records.

SUMMARY: The U.S. Marine Corps is adding a system of records notice to its inventory of records systems subject to the Privacy Act of 1974, as amended (5 U.S.C. 552a).

DATES: The new system of records will be effective on June 23, 2008 unless comments are received that would result in a contrary determination.

ADDRESSES: Send comments to Headquarters, U.S. Marine Corps, FOIA/PA Section (CMC-ARSF), 2 Navy Annex, Room 3134, Washington, DC 20380-1775.

FOR FURTHER INFORMATION CONTACT: Ms. Teresa D. Ross at (703) 614-4008.

SUPPLEMENTARY INFORMATION: The U.S. Marine Corps' systems of records notices subject to the Privacy Act of 1974, (5 U.S.C. 552a), as amended, have been published in the Federal Register and are available from the address above.

The proposed system report, as required by 5 U.S.C. 552a(r) of the Privacy Act of 1974, as amended, was submitted on May 6, 2008 to the House Committee on Oversight and Governmental Reform, the Senate Committee on Governmental Affairs, and the Office of Management and Budget (OMB) pursuant to paragraph 4c of Appendix I to OMB Circular No. A-130, ‘Maintaining Records About Individuals,’ dated February 8, 1996 (February 20, 1996, 61 FR 6427).

Dated: May 16, 2008.
Patricia L. Toppings,
OSD Federal Register Liaison Officer, Department of Defense.

M01133-3

SYSTEM NAME:

Marine Corps Recruiting Information Support System (MCRISS).

SYSTEM LOCATION:

Primary System: Marine Corps Recruiting Command (Attn: G-3 MCRISS), 3280 Russell Road, Quantico, VA 22134-5103.

Decentralized Segments—Recruiting Sub-Stations, Recruiting Stations, Recruiting District Headquarters, Region District Headquarters, Marine Corps Recruit Depots, and Military Entrance Processing Stations (MEPS).

CATEGORIES OF INDIVIDUALS COVERED BY THE SYSTEM:

Prospective applicants, delayed entry personnel, applicants for regular and reserve entitlement programs, and any other individuals who have initiated correspondence pertaining to enlistment or commissioning into the U.S. Marine Corps.

CATEGORIES OF RECORDS IN THE SYSTEM:

Individual's name, home address, Social Security Number (SSN), Personal history records will include education, professional qualifications, mental aptitude, physical qualifications, character and interview appraisals, National Agency Checks and certifications, service performance and congressional or special interests. Information collected from DD Form 4 will include Enlistment/Reenlistment Documents—Armed Forces of the United States; DD Form 93, Record of Emergency Data; DD Form 1966, Application for Enlistment in the Armed Forces of the United States; SF-86, Questionnaire for National Security Positions; and medical and mental aptitude qualification information gathered during the qualification screening process at the Military Entrance Processing Command (MEPS).

AUTHORITY FOR MAINTENANCE OF THE SYSTEM:

10 U.S.C. 5042, Headquarters, U.S. Marine Corps; 5 U.S.C. 301, Departmental Regulations; and E.O. 9397 (SSN).

PURPOSE(S):

To provide recruiters, administrators, and decision makers with information necessary, which may influence the decision to select/non-select an individual for enlistment or commissioning in the U.S. Marine Corps (i.e., personal history, education, professional qualifications, mental aptitude, and other individualized items).

To provide historical data for comparison of current applicants with those selected in the past.

To collect an initial data record which will be transitioned to the manpower and pay system, thereby reducing redundancy and duplicity.

ROUTINE USES OF RECORDS MAINTAINED IN THE SYSTEM, INCLUDING CATEGORIES OF USERS AND THE PURPOSES OF SUCH USERS:

In addition to those disclosures generally permitted under 5 U.S.C. 552a(b) of the Privacy Act, these records or information contained therein may specifically be disclosed outside the DoD as a routine use pursuant to 5 U.S.C. 552a(b)(3) as follows:

To officials and employees of other departments and agencies of the Executive Branch of government, upon request, in the performance of their official duties related to the management of quality military recruitment and the recruitment of Merchant Marine personnel.

The ‘Blanket Routine Uses’ set forth at the beginning of the Marine Corps' compilation of systems of records notices apply to this system.

POLICIES AND PRACTICES FOR STORING, RETRIEVING, ACCESSING, RETAINING, AND DISPOSING OF RECORDS IN THE SYSTEM:

STORAGE:

Paper in file folders and electronic storage media.

RETRIEVABILITY:

Name and Social Security Number (SSN).

SAFEGUARDS:

Records are maintained in area only accessible to authorized personnel that are properly screened, cleared, and trained. System software uses Primary Key Infrastructure (PKI)/Common Access Card (CAC) authentication to lock out unauthorized access. System software contains authorization/permission partitioning to limit access to appropriate organizational level.

RETENTION AND DISPOSAL:

Records are maintained for five years and then destroyed.

SYSTEM MANAGERS(S) AND ADDRESS:

Commanding General, Marine Corps Recruiting Command (Attn: G-3 MCRISS), 3280 Russell Road, Quantico, VA 22134-5103.

NOTIFICATION PROCEDURE:

Individuals seeking access to records about themselves contained in this system of records should address written requests to the Commanding General, Marine Corps Recruiting Command (Attn: G-3 MCRISS), Quantico, VA 22134.

Letter should contain the full name, address, Social Security Number and signature.

Individuals desiring to visit a Recruiting Station, District, or Marine Corps Recruit Depot should visit https://www.marines.usmc.mil/ and follow the links section to get information on all facilities.

The requester may also visit any Marine Corps Recruiting Station to determine whether MCRISS contains records pertaining to him/her. In order to personally visit a Recruiting Station and obtain information, individuals must present proper identification such as a valid state driver's license or some other suitable proof of identity.

RECORD ACCESS PROCEDURES:

Individuals seeking access to information about themselves contained in this system should address written inquiries to the Commanding Officer of the activity to which they were assigned or applied through.

Letter should contain the full name, address, Social Security Number and signature.

Individuals desiring to visit a Recruiting Station, District, or Marine Corps Recruit Depot should visit https://www.marines.usmc.mil/ and follow the links section to get information on all facilities.

The requester may also visit any Marine Corps Recruiting Station, District Headquarters, or Marine Corps Recruit Depot to determine whether MCRISS contains records pertaining to him/her. In order to personally visit a Marine Corps Recruiting Station, District Headquarters, or Marine Corps Recruit Depot and obtain information, individuals must present proper identification such as military identification, a valid state driver's license, or some other suitable proof of identity.

CONTESTING RECORD PROCEDURES:

The U.S. Marine Corps rules for accessing records and for contesting contents and appealing initial agency determinations are published in Secretary of the Navy Instruction 5211.5; Marine Corps Order P5211.2; 32 CFR Part 701; or may be obtained from the system manager.

RECORD SOURCE CATEGORIES:

U.S. Marine Corps recruiting and reserve personnel and administrative staff; medical personnel conducting physical examinations and/or private physicians providing consultation or patient history; character and employer references; educational institutions; staff and faculty members; Selective Service Commission; local, state, and federal law enforcement agencies; prior or current military service records; and members of Congress.

EXEMPTIONS CLAIMED FOR THE SYSTEM:

Parts of this system may be exempt under the provisions of 5 U.S.C. 552a(k)(1), (k)(5) and (k)(6) as applicable.

Information specially authorized to be classified under E.O.12958 implemented by DoD 5200.1-R, may be exempt pursuant to 5 U.S.C. 552a(k)(1).

Investigatory material compiled solely for the purpose of determining suitability, eligibility, or qualifications for Federal civilian employment, military service, Federal contracts, or access to classified information, but only to the extent such material would reveal the identity of a confidential source, may be exempt pursuant to 5 U.S.C. 552a(k)(5).

Testing or examination material used solely to determine individual qualifications for appointment or promotion in the Federal or military service, if the disclosure would compromise the objectivity or fairness of the test or examination process, may be exempt pursuant to 5 U.S.C. 552a(k)(6).

An exemption rule for this system has been promulgated in accordance with the requirements of 5 U.S.C. 553(b)(1), (2), and (3), (c) and (e) and published in 32 CFR Part 701, Subpart G. For additional information, contact the system manager.

[FR Doc. E8-11652 Filed 5-22-08; 8:45 am]

BILLING CODE 5001-06-P